DEPARTMENT OF THE INTERIOR

National Park Service

[NPS-WASO-NAGPRA-NPS0030318; PPWOCRADN0-PCU00RP14.R50000]

Notice of Intent To Repatriate Cultural Items: The Field Museum of Natural History, Chicago, IL

AGENCY: National Park Service, Interior.

ACTION: Notice.

SUMMARY: The Field Museum of Natural History (Field Museum), in consultation with the appropriate Indian Tribes or Native Hawaiian organizations, has determined that the cultural items listed in this notice meet the definition of unassociated funerary objects. Lineal descendants or representatives of any Indian Tribe or Native Hawaiian organization not identified in this notice that wish to claim these cultural items should submit a written request to the Field Museum. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to the Field Museum at the address in this notice by July 10, 2020.

ADDRESSES: Helen Robbins, Director of Repatriation, The Field Museum, 1400 S Lake Shore Drive, Chicago, IL 60605, telephone (312) 665-7317, email hrobbins@fieldmuseum.org.

SUPPLEMENTARY INFORMATION: Notice is here given in accordance with the Native American Graves Protection and Repatriation Act (NAGPRA), 25 U.S.C. 3005, of the intent to repatriate cultural items under the control of the Field Museum of Natural History, Chicago, IL, that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Item(s)

In 1900 and 1901, six cultural items were removed from the site of Payupki in Navajo County, AZ. The items were removed by Charles Owen over the course of two field seasons. The excavations were sponsored by Stanley McCormick on behalf of the Field Museum of Natural History. The six unassociated funerary objects are one ceramic jar, one ceramic pot, and four ceramic bowls.

Owen's field notes and the corresponding field numbers on the items show by a preponderance of evidence that the items were removed from graves. The items were all removed from the Hopi Reservation. They are culturally affiliated with the Hopi Tribe of Arizona based on academic literature, oral tradition, and consultation with the Hopi Tribe.

The site of Payupki was recorded in Charles Owen's notes as being founded in 1680 by people from the “Rio Grande district” who lived at the site for a few generations before returning from where they had come. Based on academic literature and oral traditional information, these people were the ancestors of the Pueblo of Sandia, New Mexico.

Determinations Made by the Field Museum of Natural History

Officials of the Field Museum of Natural History have determined that:

• Pursuant to 25 U.S.C. 3001(3)(B), the six cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and the Hopi Tribe of Arizona.

Additional Requestors and Disposition

Lineal descendants or representatives of any Indian Tribe or Native Hawaiian organization not identified in this notice that wish to claim these cultural items should submit a written request with information in support of the claim to Helen Robbins, Director of Repatriation, The Field Museum, 1400 S Lake Shore Drive, Chicago, IL 60605, telephone (312) 665-7317, email hrobbins@fieldmuseum.org, by July 10, 2020. After that date, if no additional claimants have come forward, transfer of control of the unassociated funerary objects to the Hopi Tribe of Arizona may proceed.

The Field Museum is responsible for notifying the Hopi Tribe of Arizona and the Pueblo of Sandia, New Mexico that this notice has been published.

Dated: May 11, 2020.
Melanie O'Brien,
Manager, National NAGPRA Program.

[FR Doc. 2020-12556 Filed 6-9-20; 8:45 am]

BILLING CODE 4312-52-P